DEPARTMENT OF TRANSPORTATION

Office of the Secretary

Order Granting Exemption

AGENCY: Department of Transportation.

ACTION: Notice of Order Granting Exemption (Docket OST-02-13896)—Order 2003-7-22.

SUMMARY: The Department of Transportation has granted an application by the International Air Transport Association (IATA) to permit IATA to implement certain resolutions and recommended practices of its worldwide Cargo Services Conference (CSC), without filing the resolutions and recommended practices for prior approval by the Department and without obtaining immunity from the U.S. antitrust laws.

FOR FUTHER INFORMATION CONTACT: Mr. John Kiser or Ms. Bernice Gray, Pricing & Multilateral Affairs Division (X-43, Room 6424), U.S. Department of Transportation, 400 Seventh Street, SW., Washington, DC 20590, 202-366-2435.

Dated: July 18, 2003.
Michael W. Reynolds,
Acting Assistant Secretary for Aviation and International Affairs.

[FR Doc. 03-18913 Filed 7-24-03; 8:45 am]

BILLING CODE 4910-62-P